DEPARTMENT OF THE INTERIOR

National Park Service

Notice of Inventory Completion: Southwest Museum of the American Indian, Autry National Center, Los Angeles, CA

AGENCY: National Park Service, Interior.

ACTION: Notice.

Notice is here given in accordance with the Native American Graves Protection and Repatriation Act (NAGPRA), 25 U.S.C. 3003, of the completion of an inventory of human remains and associated funerary objects in the control of the Southwest Museum of the American Indian, Autry National Center, Los Angeles, CA. The human remains and associated funerary objects were removed from Kern County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

A detailed assessment of the human remains was made by the Southwest Museum of the American Indian, Autry National Center professional staff in consultation with representatives of the Picayune Rancheria of the Chukchansi Indians of California; Santa Rosa Indian Community of the Santa Rosa Rancheria, California; Table Mountain Rancheria of California; Tule River Indian Tribe of the Tule River Reservation of California; and Tuolumne Band of Me-Wuk Indians of the Tuolumne Rancheria of California.

In an unknown year, human remains representing a minimum of one individual were removed from an unknown site in Buttonwillow, Kern County, CA (Cat. #17.c.11). The museum has no additional information regarding the circumstances of the removal or the museum's acquisition of the human remains. No known individual was identified. No associated funerary objects are present.

In 1935, human remains representing a minimum of 12 individuals were removed from burials at site

P-15-000116 (CA-KER-116) in Elk Hills Cemetery, Buena Vista Lake, Kern County, CA, by Edwin F. Walker, Southwest Museum Research Associate, and were donated to the museum that same year (Accn. #11.F). No known individuals were identified. The 955 associated funerary objects are 9 arrowpoints (8 chalcedony, 1 obsidian arrowpoint); 1 basket covered bowl fragment; 11 basket fragments; 1 fragmented wooden bowl; 1 wooden bowl; 1 small round metal container; 1 soapstone bowl fragment, 2 steatite bowl fragments; 1 cup; 1 cup fragment; 867 beads (435 blue beads, 37 red beads, 163 white beads, 1 amber bead, 2 green beads, 1 polychrome bead, 8 pismo clam beads, 100 seed beads, 1 black bead, 2 bone beads with tiny fragments, 67 olivella shell beads, 1 abalone bead, 1 clam shell bead, 23 light blue, 4 green and 21 trade beads); 5 strings of beads; 5 brass buttons; 1 clam shell disk; 1 steatite dish; 5 fabric fragments with small fragments as well; 2 abalone shell gorgets; 1 nut; 16 shell ornaments (5 Columbella ornaments; 10 Hinnites ornaments and 1 pismo clam shell); 12 pendants (8 freshwater clams and 4 seawater clam shell); 2 pigment fragments; 1 piece of leather rope; 1 fragmented limpet shell; 1 bag of well broken, powdered shell; 3 brass thimbles; 1 fiber water bottle; 1 clay whistle; and 1 whistle fragment.

Historically, a Yokuts village extended along the north shore, on a sand spit, at the outlet of Buena Vista Lake. The Elk Hills Cemetery is located approximately 1,000 feet due north of this sand spit and Yokut village. The associated funerary objects removed from site P-15-000116 (CA-KER-116) illustrate that this burial site was in use during the Historic Period, approximately between the years A.D. 1780 and 1818.

The burial contexts identify the human remains removed from sites in Kern County, CA, as being Native American. Linguistic evidence indicates that this region of California was inhabited by Native American Yokut speakers. Consultation with a tribal representative of the Santa Rosa Indian Community of the Santa Rosa Rancheria, California, confirmed that these burial sites were within an area, documented by Yokut oral history, of continued habitation that include the Protohistoric and Historic Periods. Historical sources corroborate this oral history. Modern descendants of Yokut speakers are members of the Picayune Rancheria of the Chukchansi Indians of California; Santa Rosa Indian Community of the Santa Rosa Rancheria, California; Table Mountain Rancheria of California; Tule River Indian Tribe of the Tule River Reservation of California; and Tuolumne Band of Me-Wuk Indians of the Tuolumne Rancheria of California.

Officials of the Southwest Museum of the American Indian, Autry National Center have determined that, pursuant to 25 U.S.C. 3001 (9-10), the human remains described above represent the physical remains of 13 individuals of Native American ancestry. Officials of the Southwest Museum of the American Indian, Autry National Center also have determined that, pursuant to 25 U.S.C. 3001 (3)(A), the 955 objects described above are reasonably believed to have been placed with or near individual human remains at the time of death or later as part of the death rite or ceremony. Lastly, officials of the Southwest Museum of the American Indian, Autry National Center have determined that, pursuant to 25 U.S.C. 3001 (2), there is a relationship of shared group identity that can be reasonably traced between the Native American human remains and associated funerary objects and the Picayune Rancheria of the Chukchansi Indians of California; Santa Rosa Indian Community of the Santa Rosa Rancheria, California; Table Mountain Rancheria of California; Tule River Indian Tribe of the Tule River Reservation of California; and Tuolumne Band of Me-Wuk Indians of the Tuolumne Rancheria of California.

Representatives of any other Indian tribe that believes itself to be culturally affiliated with the human remains and associated funerary objects should contact Steven Karr, Ph.D., Ahmanson Curator of History and Culture and Interim Executive Director, 234 Museum Drive, Los Angeles, CA 90065, telephone (323) 221-2164, extension 241, or LaLena Lewark, Senior NAGPRA Coordinator, Autry National Center, 4700 Western Heritage Way, Los Angeles, CA 90027, telephone (323) 667-2000, extension 220, before April 6, 2009. Repatriation of the human remains and associated funerary objects to the Santa Rosa Indian Community of the Santa Rosa Rancheria, California may proceed after that date if no additional claimants come forward.

The Southwest Museum of the American Indian, Autry National Center is responsible for notifying the Picayune Rancheria of the Chukchansi Indians of California; Santa Rosa Indian Community of the Santa Rosa Rancheria, California; Table Mountain Rancheria of California; Tule River Indian Tribe of the Tule River Reservation of California; and Tuolumne Band of Me-Wuk Indians of the Tuolumne Rancheria of California that this notice has been published.

Dated: February 13, 2009.
Sangita Chari,
Acting Manager, National NAGPRA Program.

[FR Doc. E9-4675 Filed 3-4-09; 8:45 am]

BILLING CODE 4312-50-S